DEPARTMENT OF VETERANS AFFAIRS

38 CFR Part 36

RIN 2900-AR79

Federal Civil Penalties Inflation Adjustment Act Amendments; Correction

AGENCY: Department of Veterans Affairs.

ACTION: Correcting amendments.

SUMMARY: On January 6, 2023, the Department of Veterans Affairs (VA) published in the Federal Register a final rule that provided public notice of inflationary adjustments to the maximum civil monetary penalties assessed or enforced by VA, pursuant to the Federal Civil Penalties Inflation Adjustment Act of 1990, as amended (the Act), for calendar year 2023. This correction addresses a typographical error in the published final rule.

DATES: This correction is effective January 17, 2023. The correction is applicable as of January 6, 2023.

FOR FURTHER INFORMATION CONTACT: Stephanie Li, Chief, Regulations Team, Loan Guaranty Service (26), Department of Veterans Affairs, 810 Vermont Avenue NW, Washington, DC 20420, (202) 632-8862. (This is not a toll-free number.)

SUPPLEMENTARY INFORMATION: VA is correcting its regulations published on January 6, 2023, in the Federal Register at 88 FR 986 in the final rule “RIN 2900-AR79, Federal Civil Penalties Inflation Adjustment Act Amendments”. The final rule submitted for publication contained a typographical error; specifically, two digits were transposed in the second amendatory instruction. The final rule lists the current amount at 38 CFR 36.4340 as “$25,067”, but the current amount is “$25,076”.

List of Subjects in 38 CFR Part 36

Condominiums, Housing, Individuals with disabilities, Loan programs—housing and community development, Loan programs—veterans, Manufactured homes, Mortgage insurance, Reporting and recordkeeping requirements, Veterans.

For the reasons stated in the preamble, 38 CFR part 36 is corrected by making the following correcting amendment:

PART 36—LOAN GUARANTY

1. The authority citation for part 36 continues to read as follows:

Authority: 38 U.S.C. 501 and 3720.

§ 36.4340 [Amended]

2. In § 36.4340, amend paragraphs (k)(1)(i) introductory text and (k)(3) by removing “$25,076” and adding in its place “$27,018”.

Jeffrey M. Martin,
Assistant Director, Office of Regulation Policy & Management, Office of General Counsel, Department of Veterans Affairs.

[FR Doc. 2023-00716 Filed 1-13-23; 8:45 am]

BILLING CODE 8320-01-P